COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and a service to the Procurement List that will be furnished by nonprofit agencies employing persons who are blind or have other severe disabilities and to delete products previously furnished by such agencies.

Comments Must Be Received on or Before: 11/5/2012.

ADDRESSES: Committee for Purchase From People Who Are Blind or Severely Disabled, Jefferson Plaza 2, Suite 10800, 1421 Jefferson Davis Highway, Arlington, Virginia 22202-3259.

For Further Information or To Submit Comments Contact: Barry S. Lineback, Telephone: (703) 603-7740, Fax: (703) 603-0655, or email CMTEFedReg@AbilityOne.gov.

SUPPLEMENTARY INFORMATION: This notice is published pursuant to 41 U.S.C.8503(a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

NSN: 4240-00-NIB-0042—Reflective Safety Belt, ARMY, Adjustable 31″ to 55″, Gold/Black

NSN: 4240-00-NIB-0043—Reflective Safety Belt, NAVY, Adjustable 31″ to 55″, Silver/Black

NSN: 4240-00-NIB-0045—Reflective Safety Belt, USMC, Adjustable 31″ to 55″, Amber/Scarlet

NSN: 4240-00-NIB-0044—Reflective Safety Belt, AIR FORCE, Adjustable 31″ to 55″, Silver/Blue

NSN: 4240-00-NIB-0046—Reflective Safety Belt, Vinyl, Adjustable 31″ to 55″, White

NSN: 4240-00-NIB-0047—Reflective Safety Belt, Vinyl, Adjustable 31″ to 55″, Fluorescent Lime/Yellow

NSN: 4240-00-NIB-0048—Reflective Safety Belt, Vinyl, Adjustable 31″ to 55″, Blue

NSN: 4240-00-NIB-0049—Reflective Safety Belt, Vinyl, Adjustable 31″ to 55″, Fluorescent Red/Orange

NSN: 4240-00-NIB-0050—Reflective Safety Belt, Vinyl, Adjustable 31″ to 55″, Red

NSN: 4240-00-NIB-0051—Reflective Safety Belt, Vinyl, Adjustable 31″ to 55″, Fluorescent Green

NSN: 4240-00-NIB-0052—Reflective Safety Belt, Vinyl, Adjustable 31″ to 55″, Dark Green

NPA: Envision, Inc., Wichita, KS.

Contracting Activity: Defense Logistics Agency Troop Support, Philadelphia, PA.

Coverage: C-List for 100% of the requirement of the Department of Defense, as aggregated by the Defense Logistics Agency Troop Support, Philadelphia, PA.

Service

Service Type/Location: Custodial Service, Corps of Engineers (COE), Whiteman Resident Office, 930 Arnold Avenue, Building, Whiteman AFB, MO.

NPA: Portco, Inc., Portsmouth, VA.

Contracting Activity: Dept. of the Army, W071 Endist Kansas City, Kansas City, MO.

Deletions

The following products are proposed for deletion from the Procurement List:

Products

NSN: 9905-00-565-6268—Sign Kit, Replacement

NPA: CW Resources, Inc., New Britain, CT.

Contracting Activity: General Services Administration, Fort Worth, TX.

NSN: 8465-00-860-0256—Cover, Water Canteen

NPA: Human Technologies Corporation, Utica, NY.

Contracting Activity: Defense Logistics Agency Troop Support, Philadelphia, PA.

Barry S. Lineback,
Director, Business Operations.

[FR Doc. 2012-24609 Filed 10-4-12; 8:45 am]

BILLING CODE 6353-01-P